DEPARTMENT OF COMMERCE

National Telecommunications and Information Administration

Commerce Spectrum Management Advisory Committee

AGENCY: National Telecommunications and Information Administration, U.S. Department of Commerce.

ACTION: Notice; reopening of application window for Advisory Committee nominations.

SUMMARY: Through this Notice, the National Telecommunications and Information Administration (NTIA) is reopening an application window for nominations to the Commerce Spectrum Management Advisory Committee (CSMAC). On March 29, 2016, NTIA published a Notice seeking nominations to the CSMAC with a deadline of May 13, 2016. In reopening this application window, NTIA seeks to expand the pool of applicants and best ensure the composition of the committee reflects balanced points of view.

DATES: Applications must be postmarked or electronically transmitted to the address below on or before June 24, 2016.

ADDRESSES: Persons may submit applications to David J. Reed, Designated Federal Officer, by email to dreed@ntia.doc.gov or by U.S. mail or commercial delivery service to Office of Spectrum Management, National Telecommunications and Information Administration, 1401 Constitution Avenue NW., Room 4600, Washington, DC 20230.

FOR FURTHER INFORMATION CONTACT: David J. Reed at (202) 482-5955 or dreed@ntia.doc.gov.

SUPPLEMENTARY INFORMATION: The CSMAC was established and chartered by the Department of Commerce under the Federal Advisory Committee Act (FACA), 5 U.S.C. App. 2, and pursuant to Section 105(b) of the National Telecommunications and Information Administration Organization Act, as amended, 47 U.S.C. 904(b). The Department of Commerce re-chartered the CSMAC on March 3, 2015, for a two-year period. More information about the CSMAC may be found at http://www.ntia.doc.gov/category/csmac.

On March 29, 2016, NTIA published a Notice in the Federal Register seeking nominations for appointment to the CSMAC. See Commerce Spectrum Management Advisory Committee; Call for Applications, 81 FR 17446 (March 29, 2016), available at http://www.ntia.doc.gov/files/ntia/publications/fr_csmac_applications_call_03292016.pdf. The original application deadline was May 13, 2016.

Through this Notice, NTIA is reopening the application window for 10 days to expand the pool of applicants and best ensure the composition of the committee reflects balanced points of view (e.g., past professional or academic accomplishments, industry sector representation, and educational background). All other requirements for appointment to the CSMAC appear in the SUPPLEMENTARY INFORMATION section of the March 29, 2016, Notice.

Dated: June 8, 2016.
Kathy D. Smith,
Chief Counsel, National Telecommunications and Information Administration.

[FR Doc. 2016-13971 Filed 6-13-16; 8:45 am]

BILLING CODE 3510-10-P